ENVIRONMENTAL PROTECTION AGENCY

[EPA-HQ-OPP-2008-0046; FRL-8396-6]

Notice of Receipt of Several Pesticide Petitions Filed for Residues of Pesticide Chemicals in or on Various Commodities

AGENCY: Environmental Protection Agency (EPA).

ACTION: Notice.

SUMMARY: This notice announces the Agency's receipt of several initial filings of pesticide petitions proposing the establishment or modification of regulations for residues of pesticide chemicals in or on various commodities.

DATES: Comments must be received on or before May 13, 2009.

ADDRESSES: Submit your comments, identified by docket identification (ID) number and the pesticide petition number (PP) of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and e-mail address, is listed at the end of each pesticide petition summary. You may also reach each contact person by mail at: Registration Division (7505P), Office of Pesticide Programs, Environmental Protection Agency, 1200 Pennsylvania Ave., NW., Washington, DC 20460-0001.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What Action is the Agency Taking?

EPA is announcing its receipt of several pesticide petitions filed under section 408 of the Federal Food, Drug, and Cosmetic Act (FFDCA), 21 U.S.C. 346a, proposing the establishment or modification of regulations in 40 CFR part 174 or part 180 for residues of pesticide chemicals in or on various food commodities. EPA has determined that the pesticide petitions described in this notice contain the data or information prescribed in FFDCA section 408(d)(2); however, EPA has not fully evaluated the sufficiency of the submitted data at this time or whether the data support granting of the pesticide petitions. Additional data may be needed before EPA can make a final determination on these pesticide petitions.

Pursuant to 40 CFR 180.7(f), a summary of each of the petitions that are the subject of this notice, prepared by the petitioner, is included in a docket EPA has created for each rulemaking. The docket for each of the petitions is available on-line at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PP 7E7294. (EPA-HQ-OPP-2008-0854). Dow AgroSciences LLC, 9330 Zionsville Rd., Indianapolis, IN 46268, proposes to establish a tolerance in 40 CFR part 180 for residues of the fungicide meptyldinocap as the parent 2,4-dinitro-6-(1-methylheptyl) phenyl crotonate and the 2,4-dinitro-6-(1-methylheptyl) phenol metabolite in or on grape; grape, wine; or grape, juice at 0.3 parts per million (ppm). This petition is for the establishment of tolerances for meptyldinocap for grapes and processed grapes to cover registered uses of this active ingredient in other countries, e.g., in Europe and Chile, for grapes and wine imported to the United States. The database which supports meptyldinocap builds on the historical relationship of meptyldinocap to dinocap. Dinocap is a mixture of six DNOPC isomers (both ortho and para methylheptyl, ethylhexyl, and propylpentyl crotonate isomers). The new meptyldinocap is an enhanced offering of the single 2,4-DNOPC methylheptyl isomer. Overall, meptyldinocap has an improved toxicological profile relative to the older dinocap. At times, data for dinocap is used as a conservative surrogate for meptyldinocap. Adequate methods are available for determination of meptyldinocap residues in plant commodities. There is a practical, validated method (DOS/220) for the quantification of meptyldinocap and the related phenol metabolite in grapes. Key aspects of the method include conversion of parent 2,4-DNOPC to the phenol metabolite and final quantification based on liquid chromatography/mass spectrometry (LC/MS/MS) of 2,4-DNOP. The level of quantitation (LOQ) for meptyldinocap (as single 2,4-DNOPC methylheptyl isomer) is 0.025 ppm and the level of detection (LOD) is 0.01 ppm for grapes. These levels are suitable for detecting and measuring levels of meptyldinocap in or on food and allow monitoring of food residues at or above the level set for these tolerances. In addition, a multi-residue enforcement method DFG S19 is available. It has been validated successfully for the determination of dinocap in plant materials including grapes. It also relies on confirmation of the phenol derivatives via LC/MS/MS. Contact: Tamue L. Gibson, (703) 305-9096, gibson.tamue@epa.gov.

2. PP 8E7313. (EPA-HQ-OPP-2008-0840). Syngenta Crop Protection, P.O. Box 18300, Greensboro, NC 27419, proposes to establish a tolerance in 40 CFR part 180 for residues of the fungicide fenpropidin, 1-[3-[4-(1, 1-dimethylethyl) phenyl]-2-methyl-propyl]-piperidine in or on banana, whole fruit at 10 ppm. An adequate, validated method is available for enforcement purposes (method REM 164.09). Residues of fenpropidin are extracted from crop samples by shaking with methanol: Water (80:20, v/v). Extracts are centrifuged and aliquots (1 mL = 0.1 g) are diluted with 90:10:0.2 water: Acetonitrile: Acetic acid (v/v/v). Separation is achieved by high performance liquid chromatography with a Synergi Polar-RP 80A column (50 x 3.0 mm, 4 μm) and a mobile phase gradient of (1) acetonitrile and (2) 0.2% (v/v) acetic acid in water. Final determination is carried out with triple quadrupole mass spectrometric detection (LC-MS/MS, Applied Biosystems API 3000 detector). A primary transition with m/z 274.3 → 147.0 as well as a confirmatory transition with m/z 274.2 → 117.0 are monitored. Quantification is by external standardization. Contact: Tracy Keigwin, (703) 305-6605, keigwin.tracy@epa.gov

3. PP 8E7411. (EPA-HQ-OPP-2008-0814). Interregional Research Project #4 (IR-4), 500 College Rd. East, Suite 201, Princeton, NJ 08540, proposes to establish a tolerance in 40 CFR part 180 for residues of the insecticide thiamethoxam [3-[(2-chloro-5-thiazolyl)methyl]tetrahydro-5-methyl-N-nitro-4H-1,3,5-oxadiazin-4-imine]; (CAS Reg. No. 153719-23-4) and its metabolite [N-(2-chloro-thiazol-5-ylmethyl)-N'-methyl-N'-nitro-guanidine] in or on vegetable, root, subgroup 1A at 0.04 ppm; avocado at 0.2 ppm; black sapote at 0.2 ppm; canistel at 0.2 ppm; mamey sapote at 0.2 ppm; mango at 0.2 ppm; papaya at 0.2 ppm; sapodilla at 0.2 ppm; and star apple at 0.2 ppm. Syngenta Crop Protection, Inc. has submitted practical analytical methodology for detecting and measuring levels of thiamethoxam in or on raw agricultural commodities. This method is based on crop specific cleanup procedures and determination by liquid chromatography with either ultraviolet (UV) or mass spectrometry (MS) detections. The LOD for each analyte of this method is 1.25 ng injected for samples analyzed by UV and 0.25 ng injected for samples analyzed by MS, and the LOQ is 0.005 ppm for milk and juices, and 0.01 ppm for all other substrates. Contact: Susan Stanton, (703) 305-5218, stanton.susan@epa.gov.

4. PP 8E7470. (EPA-HQ-OPP-2008-0866). IR-4, 500 College Rd. East, Suite 201, Princeton, NJ 08540, proposes to establish a tolerance in 40 CFR part 180 for residues of the cyromazine, (N-cyclopropyl-1,3,5-triazine-2,4,6-triamine) cyromazine, (N-cyclopropyl-1,3,5-triazine-2,4,6-triamine) in or on bean, succulent at 2.0 ppm. Methods AG-408 and AG-417 as listed in the Food and Drug Administration's Pesticide Analytical Manual (PAM), Volume II are adequate to enforce the proposed tolerances. Contact: Susan Stanton, (703) 305-5218, stanton.susan@epa.gov.

5. PP 7F7264. (EPA-HQ-OPP-2008-0838). E. I. duPont de Nemours and Company, DuPont Crop Protection, P. O. Box 30, Newark, DE 19714-0030, proposes to establish a tolerance in 40 CFR part 180 for residues of the fungicide flusilazole, (1[[bis(4-fluorophenyl)methyl-silyl]methyl]-1H-1,2,4-triazole) and its metabolite IN-F7321 (bis(4-fluorophenyl) methylsilanol) in or on soybean at 0.04 ppm; soybean, aspirated grain fractions at 2.6 ppm; soybean, refined oil at 0.1 ppm; wheat, grain at 0.15 ppm; wheat, forage at 25 ppm, wheat, straw at 7.0 ppm; wheat, aspirated grain fractions at 6.0 ppm; cattle, fat at 1.5 ppm; cattle, kidney at 5.0 ppm; cattle, liver at 2.0 ppm; cattle, meat and cattle meat byproducts at 0.40 ppm; goat, fat at 1.5 ppm; goat, kidney at 5.0 ppm; goat, liver, at 2.0 ppm; goat, meat and goat, meat byproducts at 0.40 ppm; hog, fat at 1.5 ppm; hog, kidney at 5.0 ppm; hog, liver at 2.0 ppm; hog, meat and hog, meat byproducts at 0.40 ppm; horse, fat at 1.5 ppm; horse, kidney at 5.0 ppm; horse, liver at 2.0 ppm; horse, meat and horse, meat byproducts a 0.40 ppm; milk at 0.20 ppm; milk, fat at 1.3 ppm; sheep, fat at 1.5 ppm; sheep, kidney at 5.0 ppm; sheep, liver at 2.0 ppm; sheep, meat and sheep, meat byproducts at 0.40 ppm. An adequate enforcement method gas chromatography/mass-selective detector (GC/MS) is available to enforce the tolerance expression. The LOQ is 0.01 ppm for flusilazole and IN-F7321 for all applicable wheat and soybean commodities (except wheat straw where the LOQ is 0.02 ppm). The estimated LOD is 0.003 ppm for both flusilazole and IN-F7321 for all applicable wheat and soybean commodities (except wheat straw where the LOD is 0.006 ppm beet; wheat; and wheat, straw and fodder, dry. Contact: Tracy Keigwin, (703) 305-6605, keigwin.tracy@epa.gov.

6. PP 8E7404. (EPA-HQ-OPP-2008-0876). IR-4, IR4- Project Headquarters, 500 College Rd. East, Suite 201 W, Princeton, NJ 08540, proposes to establish a tolerance in 40 CFR part 180 for the combined residues of the herbicide pendimethalin [N-(1-ethylpropyl)-3,4-dimethyl-2,6-dinitrobenzenamine] and its metabolite, 4-[(1-ethylpropyl)amino]-2-methyl-3, 5-dinitrobenzyl alcohol in or on olive at 0.1 ppm. A practical analytical method of quantifying pendimethalin residues in plants is aqueous organic solvent extraction, column clean up, and quantitation by GS. The method has a LOQ of 0.05 ppm for pendimethalin and the alcohol metabolite. Contact: Sidney Jackson, (703) 305-7610, jackson.sidney@epa.gov.

7. PP 8E7460. (EPA-HQ-OPP-2008-0945). IR-4, Project Headquarters, Rutgers, The State University of New Jersey, 500 College Rd. East, Suite 201 W, Princeton, NJ 08540, proposes to establish a tolerance in 40 CFR part 180 for residues of the insecticide clothianidin, (E)-1-(2-chloro-1,3-thiazol-5-ylmethyl)-3-methyl-2-nitroguanidine, in or on berry, low growing, subgroup 13-07H, except strawberry at 0.01 ppm; peach at 0.70 ppm; and vegetable, tuberous and corm, subgroup 1C at 0.05 ppm. Adequate enforcement methodology LC/MS/MS analysis is available to enforce the tolerance expression. Contact: Laura Nollen, (703) 305-7390, nollen.laura@epa.gov.

8. PP 8F7396. (EPA-HQ-OPP-2008-0876). BASF Corporation, 26 Davis Dr., Research Triangle Park, NC 27709, proposes to establish a tolerance in 40 CFR part 180 for the combined residues of the herbicide pendimethalin, N-(1-ethylpropyl)-3,4-dimethyl-2,6dinitrobenzenamine, and its metabolite 4-[(1-ethylpropyl)amino]-2-methyl-3, 5-dinitrobenzyl alcohol in or on forage, forage grasses, group 17 at 40 ppm; hay, forage grasses, group 17 at 80 ppm; straw, forage grasses, group 17 at 4.5 ppm; and to establish a tolerance in 40 CFR part 180 for the combined residues of the herbicide pendimethalin, N-(1-ethylpropyl)-3,4-dimethyl-2,6dinitrobenzenamine and its metabolites 4-[(1-ethylpropyl)amino]-2-methyl-3, 5-dinitrobenzyl alcohol and 1-(1-ethyl-propyl)-5, 6 dimethyl-7-nitro-1H-benzoimidazole in or on animal commodities milk at 0.03 ppm and meat at 0.15 ppm. The method in plants is aqueous organic solvent extraction, column clean up, and quantitation by GC. The method has a LOQ of 0.05 ppm for pendimethalin and the alcohol metabolite. Contact: Mindy Ondish, (703) 605-0723, ondish.mindy@epa.gov.

9. PP 8E7462. (EPA-HQ-OPP-2008-0885). IR-4, Project Headquarters, Rutgers, The State University of New Jersey, 500 College Rd. East, Suite 201 W, Princeton, NJ 08540, proposes to establish a tolerance in 40 CFR part 180 for residues of the herbicide flumioxazin, 2-[7-fluoro-3,4-dihydro-3-oxo-4-(2-propynyl)-2H-1,4-benzoxazin-6-yl]-4,5,6,7-tetrahydro-1H-isoindole-1,3(2H)-dione in or on vegetable, cucurbit, group 9 at 0.03 ppm; leaf petioles, subgroup 4B at 0.02 ppm; and hop, dried cones at 0.07 ppm. Practical analytical methods for detecting and measuring levels of flumioxazin have been developed and validated in/on all appropriate agricultural commodities and respective processing fractions. The LOQ of flumioxazin in the methods is 0.02 ppm which will allow monitoring of food with residues at the levels proposed for the tolerances. Contact: Laura Nollen, (703) 305-7390, nollen.laura@epa.gov.

10. PP 8E7473. (EPA-HQ-OPP-2008-0887). IR-4, Rutgers University, 500 College Rd. East, Suite 201W, Princeton, NJ 08540, proposes to establish a tolerance in 40 CFR part 180 for residues of the fungicide propamocarb hydrochloride; propyl[3-(dimethylamino)propyl]carbamate mono-hydrochloride in or on bean, lima, succulent at 2.0 ppm. A practical analytical method utilizing gas/liquid chromatography and N-FID or mass spectrometry detection (MSD) is available and has been validated for detecting and measuring levels of propamocarb hydrochloride in or on food. The LOQ is 0.05 miligrams/kilograms (mg/kg) ppm. Contact: Susan Stanton, (703) 305-5218, stanton.susan@epa.gov.

11. PP 8E7476. (EPA-HQ-OPP-2008-0886). IR-4, 500 College Rd. East, Suite 201W, Princeton, NJ 08540, proposes to establish a tolerance in 40 CFR part 180 for residues of the insecticide formetanate hydrochloride (N,N-dimethyl-N′-[3-[[(methylamino)carbonyl]oxy]phenyl] methanimidamide) in or on onion, bulb, subgroup 3-07A at 0.06 ppm. A validated residue analytical method exists for quantitation of formetanate residues in onion. Samples are extracted with buffered organic solvent and the formetanate in the resulting extract is purified through a C-18 cartridge. Residues were identified and quantified by HPLC-MS/MS. The method has a LOQ of 0.002 ppm and a LOD of 0.0007 ppm. The method was validated by fortifying onions from a control site fortified to 0.002, 0.05, and 1.0 ppm. The average recovery was 89 ± 13%. Contact: Susan Stanton, (703) 305-5218, stanton.susan@epa.gov.

Amended Tolerances

1. PP 8E7411. (EPA-HQ-OPP-2008-0814). IR-4, 500 College Rd. East, Suite 201, Princeton, NJ 08540, proposes to revise the tolerance expression for the Berry Crop Group 13 to become the Berry and Small Fruit Crop Group 13 per the Pesticide Tolerance Crop Grouping Program published in the Federal Register, December 7, 2007 (72 FR 69150; FRL-8343-1). The proposed new tolerance expressions for the Berry and Small Crop group 13 for the tolerances in 40 CFR 180.565 for residues of the insecticide thiamethoxam [3-[(2-chloro-5-thiazolyl)methyl]tetrahydro-5-methyl-N-nitro-4H-1,3,5-oxadiazin-4-imine](CAS Reg. No. 153719-23-4) and its metabolite [N-(2-chloro-thiazol-5-ylmethyl)-N'-methyl-N'-nitro-guanidine] are as follows in or on: Caneberry subgroup 13-07A at 0.35 ppm; bushberry subgroup 13-07B at 0.2 ppm; fruit, small, vine climbing subgroup 13-07F, except fuzzy kiwifruit at 0.2 ppm; low growing berry subgroup 13-07G, except cranberry at 0.3 ppm. The existing tolerance on cranberry at 0.02 ppm will not be changed. Also, the IR-4 is requesting the following tolerances be deleted: Vegetable, root, except sugar beet, subgroup 1B at 0.02 ppm; caneberry subgroup 13A at 0.35 ppm; bushberry subgroup 13B at 0.20 ppm; grape at 0.20 ppm; strawberry at 0.30 ppm; lingonberry at 0.20 ppm; juneberry at 0.20 ppm; and salal at 0.20 ppm. Syngenta Crop Protection, Inc. has submitted practical analytical methodology for detecting and measuring levels of thiamethoxam in or on raw agricultural commodities. This method is based on crop specific cleanup procedures and determination by liquid chromatography with either UV or MS detections. The LOD for each analyte of this method is 1.25 ng injected for samples analyzed by UV and 0.25 ng injected for samples analyzed by MS, and the LOQ is 0.005 ppm for milk and juices, and 0.01 ppm for all other substrates. Contact: Susan Stanton, (703) 305-5218, stanton.susan@epa.gov.

2. PP 8F7416. (EPA-HQ-OPP-2008-0771). Bayer CropScience, P.O. Box 12014, 2 T.W. Alexander Dr., Research Triangle Park, NC 27709, proposes to amend the tolerance in 40 CFR 180.586 by increasing the tolerance for residues of the insecticide clothianidin, (E)-1-(2-chloro-1,3-thiazol-5-ylmethyl)-3-methyl-2-nitroguanidine and its metabolite, TMG, N-(2-chloro-5-thiazolylmethyl)-N'-methylguanidine in or on potato from 0.05 ppm to 0.6 ppm. In plants and plant products, the residue of concern, parent clothianidin and its metabolite, TMG, N-(2-chloro-5-thiazolylmethyl)-N'-methylguanidine], can be determined using HPLC with Electrospray MS/MS detection. In an extraction efficiency testing, the plant residues method has also demonstrated the ability to extract aged clothianidin residue. Although the plant residues LC-MS/MS method is highly suitable for enforcement method, an LC-UV method has also been developed which is suitable for enforcement (monitoring) purposes in all relevant matrices. Contact: Kable Bo Davis, (703) 306-0415, davis.kable@epa.gov.

3. PP 8E7460. (EPA-HQ-OPP-2008-0945). IR-4, IR-4 Project Headquarters, Rutgers, The State University of New Jersey, 500 College Rd. East, Suite 201 W, Princeton, NJ 08450, proposes to delete the tolerance in 40 CFR 180.586 for residues of the insecticide clothianidin, (E)-1-(2-chloro-1,3-thiazol-5-ylmethyl)-3-methyl-2-nitroguanidine, in or on potato at 0.05 ppm since it will be superseded by the proposed tolerance on subgroup 1C in paragraph 7. under “New Tolerances” in this unit. Contact: Laura Nollen, (703) 305-7390, nollen.laura@epa.gov.

4. PP 8E7462. (EPA-HQ-OPP-2008-0885). The IR-4 Project Headquarters, 500 College Rd. East, Suite 201 W, Princeton, NJ 08540, proposes to amend the tolerances in 40 CFR 180.568 by revoking the existing tolerance for residues of the herbicide flumioxazin, 2-[7-fluoro-3,4-dihydro-3-oxo-4-(2-propynyl)-2H-1,4-benzoxazin-6-yl]-4,5,6,7-tetrahydro-1H-isoindole-1,3(2H)-dione in or on almonds because a tolerance on nut, tree, group 14 has been established; and by deleting the existing tolerance for melon subgroup 9A because it will be superseded by the proposed tolerance for cucurbit, group 9 in the section “New Tolerances” in paragraph 9. in this unit. Practical analytical methods for detecting and measuring levels of flumioxazin have been developed and validated in/on all appropriate agricultural commodities and respective processing fractions. The LOQ of flumioxazin in the methods is 0.02 ppm which will allow monitoring of food with residues at the levels proposed for the tolerances. Contact: Laura Nollen, (703) 305-7390, nollen.laura@epa.gov.

New Tolerance Exemptions

1. PP 8E7316. (EPA-HQ-OPP-2008-0858). Rhodia Inc. c/o SciReg, Inc., 12733 Director's Loop, Woodbridge, VA 22192, proposes to establish an exemption from the requirement of a tolerance in 40 CFR 180.920 for residues of the alkyl (C10-C16) dimethylamine oxide (CAS No. 70592-80-2) in or on growing crops when used as a wetting-agent in pesticide formulations applied pre-harvest to all raw agricultural commodities. Because this petition is a request for an exemption from the requirement of a tolerance, no analytical method is required. Contact: Lisa Austin, (703) 305-7894, austin.lisa@epa.gov.

2. PP 8E7457. (EPA-HQ-OPP-2008-0851). International Specialty Products, c/o Steptoe & Johnson, LLP, 1330 Connecticut Ave., NW., Washington, DC 20036, proposes to establish an exemption from the requirement of a tolerance in 40 CFR 180.960 for residues of 2-Butenedioic acid (2Z)-, monobutyl ester, polymer with methoxyethene, sodium salt, minimum number average molecular weight of 18,200 amu (CAS No. 205193-99-3) when used as a pesticide inert ingredient in pesticide formulations. Because this petition is a request for an exemption from the requirement of a tolerance, no analytical method is required. Contact: Deirdre Sunderland, (703) 603-0851, sunderland.deirdre@epa.gov.

3. PP 8E7469. (EPA-HQ-OPP-2008-0861). BASF Corporation, 100 Campus Drive, Florham Park, NJ 07932, proposes to establish an exemption from the requirement of a tolerance in 40 CFR 180.960 for residues of Oxirane, 2-methyl-, polymer with oxirane (CAS No. 9003-11-6) when used as a pesticide inert ingredient as a surfactant in pesticide formulations without limitations. Because this petition is a request for an exemption from the requirement of a tolerance, no analytical method is required. Contact: Lisa Austin, (703) 305-7894, austin.lisa@epa.gov.

4. PP 8E7453. (EPA-HQ-OPP-2008-0856). Kemira Chemicals, Inc., 1950 Vaughn Rd., Kennesaw, GA 30144, proposes to establish an exemption from the requirement of a tolerance for residues of starch, oxidized, polymers with Bu acrylate, tert-Bu acrylate and styrene, minimum number average molecular weight (in amu) 10,000 (CAS No. 204142-80-3) hereafter referred to as styrene-butylacrylate copolymer, under 40 CFR 180.960, when used as a pesticide inert ingredient in pesticide formulations in or on all food commodities without numerical limitations. Because this petition is a request for an exemption from the requirement of a tolerance, no analytical method is required. Contact: Deirdre Sunderland, (703) 603-0851, sunderland.deirdre@epa.gov.

List of Subjects

Environmental protection, Agricultural commodities, Feed additives, Food additives, Pesticides and pests, Reporting and recordkeeping requirements.

Dated: April 3, 2009.
Lois Rossi,
Director, Registration Division, Office of Pesticide Programs.

[FR Doc. E9-8348 Filed 4-10-09; 8:45 am]

BILLING CODE 6560-50-S